DEPARTMENT OF HEALTH AND HUMAN SERVICES

Health Resources and Services Administration

National Vaccine Injury Compensation Program: Revised Amount of the Average Cost of a Health Insurance Policy

AGENCY: Health Resources and Services Administration, Department of Health and Human Services (HHS).

ACTION: Notice.

The Health Resources and Services Administration (HRSA) is publishing an updated monetary amount of the average cost of a health insurance policy as it relates to the National Vaccine Injury Compensation Program (VICP).

Section 100.2 of the VICP's implementing regulation (42 CFR part 100) states that the revised amount of an average cost of a health insurance policy, as determined by the Secretary, is effective upon its delivery by the Secretary to the United States Court of Federal Claims (the Court), and will be published periodically in a notice in the Federal Register. This figure is calculated using the most recent Medical Expenditure Panel Survey-Insurance Component (MEPS-IC) data available as the baseline for the average monthly cost of a health insurance policy. This baseline is adjusted by the annual percentage increase/decrease obtained from the most recent annual Kaiser Family Foundation and Health Research and Educational Trust (KFF/HRET) Employer Health Benefits survey or other authoritative source that may be more accurate or appropriate.

In 2017, MEPS-IC, available at www.meps.ahrq.gov, published the annual 2016 average total single premium per enrolled employee at private-sector establishments that provide health insurance. The figure published was $6,101. This figure is divided by 12-months to determine the cost per month of $508.42. The $508.42 is increased or decreased by the percentage change reported by the most recent KFF/HRET Employer Health Benefits Survey, available at www.kff.org. The percentage increase from 2016 to 2017 was 4.0 percent. By adding this percentage increase, the calculated average monthly cost of a health insurance policy for a 12-month period is $528.76.

Therefore, the Secretary announces that the revised average cost of a health insurance policy under the VICP is $528.76 per month. In accordance with § 100.2, the revised amount was effective upon its delivery by the Secretary to the Court. Such notice was delivered to the Court on October 24, 2017.

Dated: October 24, 2017.
George Sigounas,
Administrator.

[FR Doc. 2017-23557 Filed 10-27-17; 8:45 am]

BILLING CODE 4165-15-P